DEPARTMENT OF THE INTERIOR

Office of Surface Mining Reclamation and Enforcement

[S1D1S SS08011000 SX066A000 67F 134S180110; S2D2S SS08011000 SX066A00 33F 13xs501520]

Notice of Correction on the Draft Environmental Impact Statement for the Four Corners Power Plant and Navajo Mine Energy Project

AGENCY: Office of Surface Mining Reclamation and Enforcement (OSMRE), Interior.

ACTION: Notice; correction.

SUMMARY: On March 28, 2014 (79 FR 17569), OSMRE published a notice of availability (NOA) for the Four Corners Power Plant and Navajo Mine Energy Project draft environmental impact statement (DEIS). The DEIS included a copy of the United States Army Corps of Engineers (USACE) Preliminary Draft Permit Evaluation (Appendix C of the DEIS) with Attachments A through D omitted. OSMRE updated the online DEIS found at http://www.wrcc.osmre.gov/initiatives/fourCorners.shtm on May 2, 2014 to include the omitted Attachments A through D, and the USACE mailed Attachments A through D on May 5, 2014 to DEIS repositories identified in the March 28, 2014 (79 FR 17569) NOA for inclusion.

FOR FURTHER INFORMATION CONTACT: Marcelo Calle, 303-293-5035.

Dated: May 16, 2014.
Joseph G. Pizarchik,
Director.

[FR Doc. 2014-11898 Filed 5-22-14; 8:45 am]

BILLING CODE 4310-05-P